DEPARTMENT OF THE INTERIOR

Bureau of Land Management

[UT-080-1310-00]

Notice of Intent To Prepare an Environmental Impact Statement (EIS) on the Chapita Wells-Stagecoach Area Gas Development Project, Uintah County, UT

AGENCY: Bureau of Land Management, Interior.

ACTION: Notice of intent and notice of scoping.

SUMMARY: Pursuant to Section 102(2)(C) of the National Environmental Policy Act of 1969, the Bureau of Land Management (BLM), Vernal Field Office, Vernal, Utah, will be preparing an EIS on EOG Resources, Inc. (EOG) proposed gas development on about 31,872 acres in the Chapita Wells-Stagecoach Area gas producing region. The Vernal Field Office Manager will be the authorized officer for this project.

DATES: A 30-day public scoping period will begin on the date this notice is published in the Federal Register. A public scoping open house and information meeting will be conducted during the scoping period. Details on this meeting will be released to the public at least 15 days from the scheduled date. If you have any information, data or concerns related to potential impacts of the proposed action, including the issues identified above, or have suggestions for additional alternatives, please submit them to the address listed below.

ADDRESSES: Written scoping comments should be sent to: Field Manager, Bureau of Land Management, Vernal Field Office, 170 South 500 East. Vernal, Utah 84078, ATTN: QEP Field Development Project.

Comments, including names and street addresses of respondents will be available for public review at the BLM Vernal Field Office and will be subject to disclosure under the Freedom of Information Act (FOIA). They may be published as part of the EIS and other related documents. Individual respondents may request confidentiality. If you wish to withhold your name or street address from public review and disclosure under the FOIA, you must state this prominently at the beginning of your written comment. Such requests will be honored to the extent allowed by law. All submissions from organizations or businesses will be made available for public inspection in their entirely.

FOR FURTHER INFORMATION CONTACT: Jean Nitschke-Sinclear, 435-781-4437 or e-mail: jean_nitschke-sinclear@blm.gov.

SUPPLEMENTARY INFORMATION: The project area is located about 30 miles southeast of Vernal, Utah. It involves about 71% BLM-administered lands (22,693 acres); 6% (1,914 acres) State of Utah-administered lands; 21% Northern Ute Tribal and/or allotted lands administered by the BIA (6,577 acres); and, 2% (688 acres) patented land. Currently 325 producing gas wells, with their attendant service roads, exist within the project area, and about 100 additional wells have been approved for drilling under a Decision Record, dated April 11, 2000, entitled Chapita Wells Unit Infill Development, Uintah County, Utah (EA No. UT-080-1999-032). There are currently no oil wells or produced water disposal wells in the project area. EOG's long term development plan includes drilling additional wells at the rate of about 90 wells per year, over a period of 7 years, or until the resource base is fully developed. A total of up to 627 new wells would be drilled. Of these, 473 would be new locations and 154 would be twins drilled from existing locations (representing 25% of the total new wells that would be drilled). About 3% of the total wells drilled may result in dry holes. The total number of wells drilled would depend largely on factors outside of EOG's control, such as production success, engineering technology, economic factors, availability of commodity markets, and lease stipulations and restrictions.

Required infrastructure includes electric power lines, roads, gas flowlines and pipelines, well pads, water injection facilities, and gas treatment facilities. Gas would be transported via pipeline to existing centralized compression and treatment facilities. Produced water would be trucked to approved evaporation pits or EOG water injection wells where it would be re-injected into the oil reservoir or disposal zone via an injection well system. Major issues at this time include potential impacts on desert and semi-desert ecosystems and their dependent wildlife species (including antelope, sage grouse, white-tailed prairie dog colonies and their associated species), vegetation (including noxious weeds and reclamation), and riparian habitat associated with the Green River corridor. Alternatives identified at this time include the proposed action, the no action alternatives and in accordance with national policy, an alternative incorporating Best Management Practices designed to reduce the environmental effects of production operations. Best Management Practices considered could include burial of flowlines in the roadbeds for transport of condensate, water and gas to centralized facilities, more extensive interim reclamation of production areas, and other techniques designed to substantially reduce the footprint of new and existing oil and gas production facilities and infrastructure.”

Dated: September 20, 2004.
William Stringer,
Vernal Field Manager.

[FR Doc. 04-22056 Filed 9-30-04; 8:45 am]

BILLING CODE 4310-$$-P